DEPARTMENT OF HEALTH AND HUMAN SERVICES

National Institutes of Health

Center for Scientific Review; Cancellation of Meeting

Notice is hereby given of the cancellation of the Center for Scientific Review Special Emphasis Panel, October 24, 2014, 8:00 a.m. to October 24, 2014, 8:30 a.m., Embassy Suites Alexandria, 1900 Diagonal Road, Alexandria, VA 22314 which was published in the Federal Register on October 6, 2014, 79 FR 60175.

The meeting is cancelled due to the reassignment of applications.

Dated: October 16, 2014.
David Clary,
Program Analyst, Office of Federal Advisory Committee Policy.

[FR Doc. 2014-25038 Filed 10-21-14; 8:45 am]

BILLING CODE 4140-01-P